DEPARTMENT OF HEALTH AND HUMAN SERVICES

Substance Abuse and Mental Health Services Administration

Center for Substance Abuse Treatment National Advisory Council; Meeting

Pursuant to Public Law 92-463, notice is hereby given of the meeting of the Substance Abuse and Mental Health Services Administration's (SAMHSA) Center for Substance Abuse Treatment National Advisory Council on April 10, 2013.

The meeting is open to the public and will include a discussion of the Center's current administrative, legislative, and program developments. Public comments are welcome. To attend on-site, or request special accommodations for persons with disabilities, please register at SAMHSA Committees' Web site, http://nac.samhsa.gov/Registration/meetingsRegistration.aspx, or contact the Council's Designated Federal Officer, Ms. Cynthia Graham (see contact information below).

Committee Name: Substance Abuse and Mental Health Services Administration Center for Substance Abuse Treatment National Advisory Council.

Date/Time/Type: April 10, 2013 9:00 a.m.-4:30 p.m. (OPEN).

Place: SAMHSA, 1 Choke Cherry Road, Sugarloaf Conference Room, Rockville, MD 20857.

Contact: Cynthia Graham, M.S., Designated Federal Official, SAMHSA/CSAT National Advisory Council, 1 Choke Cherry Road, Room 5-1035, Rockville, MD 20857, Telephone: (240) 276-1692, FAX: (240) 276-1690, Email: cynthia.graham@samhsa.hhs.gov.

Cathy J. Friedman,
Public Health Analyst, SAMHSA.

[FR Doc. 2013-05407 Filed 3-12-13; 8:45 am]

BILLING CODE 4162-20-P